DEPARTMENT OF COMMERCE

Economic Development Administration

[Docket No. 100908439-0439-01]

FY 2010 Gulf Oil Spill Supplemental Federal Funding Opportunity

AGENCY: Economic Development Administration (EDA), Department of Commerce.

ACTION: Notice and request for applications.

SUMMARY: Pursuant to the Supplemental Appropriations Act, Public Law 111-212, 124 Stat. 2302 (2010), EDA announces general policies and application procedures for the FY 2010 Gulf Oil Spill Supplemental Federal Funding Opportunity. This investment assistance will be made available to help devise and implement short- or long-term economic redevelopment strategies and for technical assistance activities to address economic development challenges in regions impacted by the discharge of oil stemming from the April 20, 2010, BP Deepwater Horizon drilling rig explosion. Applicants are advised to read carefully the federal funding opportunity (FFO) announcement for this notice and request for applications. For a copy of the FFO announcement, please see the Web sites listed below under “Electronic Access.”

DATES: Applications are accepted on a continuing basis and processed as received. Applications must be submitted electronically via http://www.grants.gov, as described below under “APPLICATION SUBMISSION REQUIREMENTS” and in section IV of the FFO announcement. Subject to the availability of funds, winning applicants should expect to receive grant award packages no later than September 2011. EDA expects to have all funding under this notice awarded by September 2011.

Application Submission Requirements: Applications must be submitted electronically in accordance with the instructions provided at http://www.grants.gov. EDA will not accept facsimile transmissions of applications. Applicants may access the application package only by following the instructions provided at http://www.grants.gov. The preferred electronic file format for attachments is portable document format (PDF); however, EDA will accept electronic files in Microsoft Word, WordPerfect, or Microsoft Excel.

Applicants are strongly encouraged to start early and not to wait until the approaching deadline before logging on and reviewing the application instructions at http://www.grants.gov. Applicants must (a) register at http://www.grants.gov, which can take between three to five business days or as long as four weeks if all steps are not completed correctly; (b) designate one or more Authorized Organizational Representatives (AOR) and ensure that an AOR submits the application; and (c) verify that the submission was successful. Applicants should save and print written proof of an electronic submission made at http://www.grants.gov. If problems occur, the applicant is advised to (a) print any error message received, and (b) call the http://www.grants.gov Contact Center at 1-800-518-4726 for assistance. The following link lists useful resources: http://www.grants.gov/help/help.jsp. Also, the following link lists frequently asked questions (FAQs): http://www.grants.gov/applicants/resources.jsp#faqs. If you do not find an answer to your question under the “Applicant FAQs,” try consulting the “Applicant User Guide” or contacting http://www.grants.gov via e-mail at support@grants.gov or telephone at 1-800-518-4726. In addition, please read carefully section IV.C of the FFO to ensure your application is received by EDA and for specific http://www.grants.gov submission procedures.

FOR FURTHER INFORMATION CONTACT: For additional information regarding the FY 2010 Gulf Oil Spill Supplemental Federal Funding Opportunity, please contact Lauren Dupuis by telephone at 404-730-3035 or via e-mail at LDupuis@eda.doc.gov in the EDA Atlanta regional office, or Jessica Falk by telephone at 512-381-8168 or via e-mail at JFalk@eda.doc.gov in the EDA Austin regional office, as appropriate.

SUPPLEMENTARY INFORMATION: Program Information: Through this FY 2010 Gulf Oil Spill Supplemental Federal Funding Opportunity, EDA intends to award investments in regions affected by the discharge of oil stemming from the April 2010 BP Deepwater Horizon spill. By this announcement, EDA solicits applications for Economic Adjustment Assistance investments (CFDA No. 11.307) authorized by the Public Works and Economic Development Act of 1965, as amended (42 U.S.C. 3121 et seq.) (PWEDA). Through the Economic Adjustment Assistance program, funded applications will help develop and implement on a regional basis short- or long-term economic redevelopment strategies and technical assistance activities for economic recovery in the recent oil spill-impacted regions in the United States.

The Economic Adjustment Assistance program can offer a wide range of technical, planning, or infrastructure assistance. See 13 CFR 307.3. This program is designed to respond adaptively to pressing economic recovery issues, and is well suited to help address the challenges faced by regions affected by the April 2010 oil spill catastrophe. Note however, that to maximize available funding, EDA will consider applications for planning or technical assistance only. That is, no awards will be made under this competitive solicitation for infrastructure improvements or revolving loan fund grants.

Prospective applicants should pay close attention to the information under “Economic Distress Criteria” below, which establishes distress criteria for applications seeking funding under this notice (see also section III.B of the FFO). Only applications meeting the distress criteria will be considered. On the date that EDA receives an application for funding under this FFO, the proposed project may be eligible for investment assistance based on the area having been affected by the discharge of oil that began on April 20, 2010, in connection with the explosion on the mobile offshore BP drilling unit Deepwater Horizon. EDA will consider appropriate applications that propose to respond to those effects.

This notice is for the FY 2010 Gulf Oil Spill Supplemental Federal Funding Opportunity only. Please access the separate FFO announcement posted at http://www.grants.gov for information regarding application and selection processes, time frames, and evaluation criteria for EDA's Economic Adjustment Assistance investments, which are funded under EDA's regular appropriations. EDA's Web site at www.eda.gov provides additional information on EDA and its programs.

Electronic Access: The FFO announcement for the FY 2010 Gulf Oil Spill Supplemental Federal Funding Opportunity is available at http://www.grants.gov and at http://www.eda.gov.

Funding Availability: Under the Supplemental Appropriations Act, 2010 (Pub. L. 111-212, 124 Stat. 2302 (2010)) (Act), Congress appropriated funds to respond to the Gulf of Mexico oil spill. Specifically, under the Act, EDA received a supplemental appropriation in the amount of $5,000,000 (Gulf Oil Spill Assistance):

“[T]o carry out planning, technical assistance and other assistance under section 209, and consistent with section 703(b), of [PWEDA], in States affected by the incidents related to the discharge of oil that began in 2010 in connection with the explosion on, and sinking of, the mobile offshore drilling unit Deepwater Horizon.”

In the Supplemental Appropriations Act, Congress directed that Gulf Oil Spill Assistance be carried out “consistent with section 703(b)” of PWEDA (42 U.S.C. 3233). Accordingly, the federal share of the cost of activities funded with amounts made available may be up to one hundred (100) percent. See also information provided below under “Cost Sharing or Matching Share Requirement.”

Based on the location of the regions affected by the oil spill, EDA will administer the Gulf Oil Spill Assistance in its Atlanta and Austin regional offices. Currently the average size of a technical assistance investment ranges from $65,000 to $250,000. For purposes of a multi-State regional award, EDA may consider an award of up to approximately $1,500,000. Please note that the approximations provided are informational only and are not intended to restrict future awards. If an application is awarded funding, neither the Department of Commerce nor EDA is under any obligation to provide any additional future funding in connection with that award or to make any future award(s). Amendment or renewal of an award to increase funding or to extend the period of performance is at the discretion of the Department of Commerce and of EDA.

EDA Regional Office Administration of Funds: EDA will administer the Gulf Oil Spill Assistance in its Atlanta and Austin regional offices, which together cover the areas that have felt the greatest impact of the oil spill, specifically, the States of Louisiana, Mississippi, Alabama, Florida, and Texas.

Project Periods: Under the Economic Adjustment Assistance program, project periods are dependent on the nature of the project. Typically, strategy grants and implementation grants (e.g., for technical assistance activities) may range from twelve (12) to eighteen (18) months. EDA will work closely with the recipient to accommodate their projected timelines.

Statutory Authority: The authority for the Economic Adjustment Assistance Program is section 209 of PWEDA (42 U.S.C. 3149). EDA's regulations, which will govern an award made under the FY 2010 Gulf Oil Spill Supplemental Federal Funding Opportunity, are codified at 13 CFR chapter III. The regulations and PWEDA are accessible at http://www.eda.gov/InvestmentsGrants/Lawsreg.xml.

Catalog of Federal Domestic Assistance (CFDA) Number: 11.307, Economic Adjustment Assistance.

Applicant Eligibility: Pursuant to PWEDA, eligible applicants for and eligible recipients of EDA investment assistance under this announcement include a(n): (1) District Organization; (2) Indian Tribe or a consortium of Indian Tribes; (3) State, city or other political subdivision of a State, including a special purpose unit of a State or local government engaged in economic or infrastructure development activities, or a consortium of political subdivisions; (4) institution of higher education or a consortium of institutions of higher education; or (5) public or private non-profit organization or association acting in cooperation with officials of a political subdivision of a State. See section 3 of PWEDA (42 U.S.C. 3122) and 13 CFR 300.3.

For the FY 2010 Gulf Oil Spill Supplemental Federal Funding Opportunity, EDA will consider applications submitted by eligible applicants located in or acting on behalf of the oil spill-affected regions. With respect to applications submitted by multiple co-applicants or an organization that is located outside of the States served by the Atlanta or Austin regional offices, EDA will ensure that the application is submitted to the appropriate regional office(s), as necessary, once they are downloaded from http://www.grants.gov.

Cost Sharing or Matching Share Requirement: As stated below under “Economic Distress Criteria,” regional eligibility under this notice is predicated upon the applicant demonstrating that the proposed area has been affected by the discharge of oil in connection with the April 2010 BP Deepwater Horizon drilling rig explosion. Generally, the amount of the EDA grant may not exceed fifty (50) percent of the total cost of the project. Projects may receive an additional amount that shall not exceed thirty (30) percent, based on the relative needs of the region in which the project will be located, as determined by EDA. See section 204(a) of PWEDA (42 U.S.C. 3144) and 13 CFR 301.4(b)(1).

In the case of EDA investment assistance to a(n) (i) Indian Tribe, (ii) State (or political subdivision of a State) that the Assistant Secretary determines has exhausted its effective taxing and borrowing capacity, or (iii) non-profit organization that the Assistant Secretary determines has exhausted its effective borrowing capacity, the Assistant Secretary has the discretion to establish a maximum EDA investment rate of up to one hundred (100) percent of the total project cost. See sections 204(c)(1) and (2) of PWEDA (42 U.S.C. 3144) and 13 CFR 301.4(b)(5). Potential applicants should contact the appropriate EDA regional office representative listed above under “FOR FURTHER INFORMATION CONTACT” to make these determinations. While EDA can consider offering assistance at investment rates as described above, the Act also allows EDA to make grants up to one hundred (100) percent pursuant to section 703(b) of PWEDA (42 U.S.C. 3233). Please note, however, that EDA considers local match an important indication of local priority and generally expects to fund applications that include a local match of at least twenty (20) percent.

While cash contributions are preferred, in-kind contributions, consisting of contributions of space, equipment, or services, or forgiveness or assumptions of debt, may provide the required non-federal share of the total project cost. See section 204(b) of PWEDA (42 U.S.C. 3144). EDA will fairly evaluate all in-kind contributions, which must be eligible project costs and meet applicable federal cost principles and uniform administrative requirements. Funds from other federal financial assistance awards are considered matching share funds only if such designation is authorized by statute, which may be determined by EDA's reasonable interpretation of the statute. See 13 CFR 300.3. The applicant must show that the matching share is committed to the project for the project period, will be available as needed, and is not conditioned or encumbered in any way that precludes its use consistent with the requirements of EDA investment assistance. See 13 CFR 301.5.

Economic Distress Criteria: In accordance with 13 CFR parts 301 and 307, EDA will review project eligibility at the time the application for investment assistance under this notice is received in the regional office. Project eligibility is a threshold consideration.

For Gulf Oil Spill Assistance, project eligibility is predicated upon the area having been affected by the discharge of oil that began on April 20, 2010, in connection with the explosion on, and sinking of, the mobile offshore BP drilling unit Deepwater Horizon. EDA will consider appropriate applications that propose to respond to those effects. Accordingly, in the project narrative as required in the Form ED-900, the applicant must identify and discuss the economic impacts that the oil spill has had in its region and explain the connection between its proposal and those impacts. Applicants that do not explain how their proposal is responsive to identified economic impacts of the oil spill will be determined ineligible for assistance under this notice. As of the date of the posting of this notice, EDA deems the States of Louisiana, Mississippi, Alabama, Florida, and Texas to be the States most severely affected by the discharge of oil. If circumstances dictate, EDA will consider applications from other States should they become affected by the discharge of oil resulting from the April 2010 BP Deepwater Horizon spill.

Application Package Requirements: Please read carefully section IV of the FFO to help ensure your application is complete and received by EDA. It is the applicant's responsibility to ensure that EDA receives the complete application package and to verify that its submission was received and validated successfully at http://www.grants.gov. Applicants are required to submit the forms listed below under at the time of application. Applications that do not contain all forms, narratives, or attachments listed below may be deemed non-responsive and excluded from consideration. The following forms are required for a complete application package:

1. Form ED-900 (Application for Investment Assistance)

2. Form SF-424 (Application for Federal Assistance)

3. Form SF-424A (Budget Information—Non-Construction Programs)

4. Form SF-424B (Assurances—Non-Construction Programs)

5. Form CD-511 (Certification Regarding Lobbying)

In addition, applicants may be required to and to provide certain lobbying information using Form SF-LLL (Disclosure of Lobbying Activities) and to submit to an individual background screening using Form CD-346 (Applicant for Funding Assistance). Form ED-900 provides detailed guidance to help the applicant assess whether Form SF-LLL is required and how to access it. Please note that, if applicable, one Form SF-LLL must be submitted for each co-applicant that has used or plans to use non-federal funds for lobbying in connection with this competitive solicitation. In addition, all non-profit applicants and applicants that are first-time recipients of EDA and/or DOC funding are required to provide Form CD-346 for a complete application, but please note that EDA may require other applicants to submit Form CD-346 as well to comply with DOC requirements. EDA will inform applicants if this is required. Please also see section IV.A of the FFO for more information.

Instructions for Completing Form ED-900: Form ED-900 is divided into lettered sections that correspond to specific EDA program components that address all of EDA's statutory and regulatory requirements. Based on the program under which assistance is sought, Form ED-900 details the sections and exhibits which the applicant must complete. Because this competitive solicitation seeks Economic Adjustment Assistance applications only, the applicant must complete only Sections A, B, E, and K and Exhibit C in Form ED-900.

In the narrative statement required under paragraph A.4 of Form ED-900, regarding the project impact and fulfillment of EDA's investment policy guidelines described below under “Evaluation Criteria,” the applicant must describe how the proposed project responds to economic impacts of the oil spill. As noted above under “Program Information,” the Gulf Oil Spill Assistance may not be used for construction purposes or revolving loan funds; assistance under this notice is available for planning and technical assistance only.

To limit the burden on the applicant, EDA may request additional documentation only if it determines that the applicant's project merits further consideration. The Form ED-900 provides detailed guidance on documentation and other information that will be requested if, and only if, EDA selects the project for further consideration. Applications will be processed on a rolling basis upon receipt, and EDA will timely inform the applicant if its application has been selected for further consideration, or if the application has not been selected for funding.

Intergovernmental Review: Applications for assistance under EDA's programs are subject to the State review requirements imposed by Executive Order 12372, “Intergovernmental Review of Federal Programs.”

Evaluation and Selection Procedures: Application packages that meet all eligibility requirements set out in this notice are circulated by a project officer within the applicable EDA regional office(s) for review and comments. When the necessary input and information have been obtained, each application is considered by each regional office's investment review committee (IRC), comprised of at least three EDA staff members, all of whom will be full-time federal employees. The IRC engages in discussion to (1) determine if each application meets the program-specific award and application requirements provided in 13 CFR 307.2 and 307.4 for Economic Adjustment Assistance; (2) determine if each application satisfies the award requirements set forth in this notice and the applicable FFO; (3) assess each application using the evaluation criteria set out below; and (4) make recommendations to the Regional Director, as the Deciding Official, regarding which applications to fund.

The IRC documents its recommendations put forth to the Regional Director regarding which applications merit funding. For quality control assurance, EDA Headquarters reviews the IRC's analysis of the project's fulfillment of the investment policy guidelines set forth below under “Evaluation Criteria.” After receiving quality control clearance, the Regional Director, considers the evaluations provided by the IRC and the degree to which one or more of the selection factors listed below are included, in making his decision as to which applications to fund.

Evaluation Criteria: EDA will evaluate applications received under this notice on the extent to which the proposed project will carry out the purpose of the Gulf Oil Spill Assistance, to help respond to the economic impacts of the oil spill. EDA will evaluate applications based on the investment policy guidelines listed below, and consider the extent to which a project embodies the maximum number of investment policy guidelines possible and strongly exemplifies at least one. All applications will be competitively evaluated primarily on their ability to satisfy one or more of the following investment policy guidelines, all of equal weight:

1. Collaborative regional innovation. Initiatives that support the development and growth of innovation clusters based on existing regional competitive strengths. Initiatives must engage stakeholders; facilitate collaboration among urban, suburban and rural (including Tribal) areas; provide stability for economic development through long-term intergovernmental and public/private collaboration; and, support the growth of existing and emerging industries.

2. Public/private partnerships. Investments that use both public and private sector resources and leverage complementary investments by other government/public entities and/or non-profits.

3. Global competitiveness. Investments that support high-growth businesses and innovation-based entrepreneurs to expand and compete in global markets.

4. Environmentally-sustainable development. Investments that encompass best practices in “environmentally sustainable development,” broadly defined, to include projects that enhance environmental quality and develop and implement green products, processes, and buildings as part of the green economy.

5. Economically distressed and underserved communities. Investments that strengthen diverse communities that have suffered disproportionate economic and job losses and/or are rebuilding to become more competitive in the global economy.

6. Total job creation. Investments that demonstrate a clear, comprehensive, and effective strategy for the recruitment, training, placement, and retention of a skilled workforce.

7. Implementation schedule. Investments with demonstrated capacity to be implemented quickly and effectively, accelerating positive economic impacts.

In addition to using the investment policy guidelines set forth above, EDA will evaluate all strategy grant applications based on the (1) quality of the proposed scope of work for the development, implementation, revision or replacement of a Comprehensive Economic Development Strategy (CEDS); and (2) qualifications of the applicant to implement the goals and objectives resulting from the CEDS. See 13 CFR 303.3(a)(1) and (2). To ensure that the application fully meets these requirements, applicants should pay particular attention to 13 CFR 303.7(b), which sets forth specific technical requirements for the CEDS.

Selection Factors: EDA expects to fund applications recommended by the IRC; however, the Deciding Official may decide not to make a selection, or may select an application that was not recommended for any one of several reasons, including the following selecting factors:

1. A determination that the application better meets the overall objectives of section 2 of PWEDA (42 U.S.C. 3121);

2. Relative economic distress of the applicant;

3. Financial capability of the applicant and feasibility of the proposed budget;

4. Availability of program funding;

5. Geographic balance in distribution of program funds;

6. A determination that the application proposes a project with a broad, multi-State impact; or

7. The applicant's performance under previous federal financial assistance awards.

The Regional Director's final decision must be consistent with EDA's and the U.S. Department of Commerce's published policies. Any time the Regional Director makes a selection that differs from the IRC's recommendations, the Regional Director will document the rationale for the decision in writing.

The Department of Commerce Pre-Award Notification Requirements for Grants and Cooperative Agreements: The administrative and national policy requirements for all Department of Commerce awards, contained in the Department of Commerce Pre-Award Notification Requirements for Grants and Cooperative Agreements, published in the Federal Register on February 11, 2008 (73 FR 7696), are applicable to this competition.

Paperwork Reduction Act: This document contains collection-of-information requirements subject to the Paperwork Reduction Act (PRA). The use of Form ED-900 (Application for Investment Assistance) has been approved by the Office of Management and Budget (OMB) under the Control Number 0610-0094. The use of Forms SF-424 (Application for Financial Assistance), SF-424A (Budget Information—Non-Construction Programs), SF-424B (Assurances—Non-Construction Programs), SF-424C (Budget Information—Construction Programs), SF-424D (Assurances—Construction Programs), and Form SF-LLL (Disclosure of Lobbying Activities) has been approved under OMB Control Numbers 4040-0004, 0348-0044, 4040-0007, 4040-0008, 4040-0009, and 0348-0046 respectively. The Form CD-346 (Applicant for Funding Assistance) is approved under OMB Control Number 0605-0001. Notwithstanding any other provision of law, no person is required to respond to, nor shall any person be subject to a penalty for failure to comply with, a collection of information subject to the requirements of the PRA unless that collection of information displays a currently valid OMB Control Number.

Executive Order 12866 (Regulatory Planning and Review): This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: September 20, 2010.
Brian P. McGowan,
Deputy Assistant Secretary of Commerce for Economic Development.

[FR Doc. 2010-23845 Filed 9-22-10; 8:45 am]

BILLING CODE 3510-24-P